DEPARTMENT OF ENERGY

Energy Information Administration

Agency Information Collection Extension

AGENCY: U.S. Energy Information Administration (EIA), U.S. Department of Energy (DOE).

ACTION: Notice of requests for comments.

SUMMARY: DOE submitted an information collection request for extension as required by the Paperwork Reduction Act of 1995. The information collection requests a three-year extension, with changes, to the Form NWPA-830G “Appendix G—Standard Remittance Advice for Payment of Fees”, including annex A to appendix G, under OMB Control Number 1901-0260. Form NWPA-830G is part of the Standard Contract for Disposal of Spent Nuclear Fuel and/or High-Level Radioactive Waste. Generators and owners of spent nuclear fuel and high-level radioactive waste of domestic origin paid fees into the Nuclear Waste Fund based on net electricity generated and sold as defined in the Standard Contract.

DATES: Comments regarding this proposed information collection must be received on or before January 17, 2025. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Guang Wei, Office of Standard Contract Management, U.S. Department of Energy, telephone (240) 388-5685, or by email at standardcontracts@hq.doe.gov. The forms and instructions are available on DOE's website at https://www.energy.gov/gc/office-standard-contract-management and at EIA's website at www.eia.gov/survey/.

SUPPLEMENTARY INFORMATION: This information collection request contains:

(1) OMB No.: 1901-0260;

(2) Information Collection Request Title: Form NWPA-830G, Standard Contract for Disposal of Spent Nuclear Fuel and/or High-Level Radioactive Waste, Appendix G;

(3) Type of Request: Three-year extension with changes;

(4) Purpose: The Form NWPA-830G survey included in the Standard Contract for Disposal of Spent Nuclear Fuel and/or High-Level Radioactive Waste, Appendix G, collects information on energy resource reserves, production, demand, technology, and related economic and statistical information.

The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. This information is used to assess the adequacy of energy resources to meet near and longer-term domestic demands.

As part of its effort to comply with the Paperwork Reduction Act of 1995 (44 U.S.C. 3501 et seq.), EIA provides the general public and other federal agencies with opportunities to comment on collections of energy information conducted by or in conjunction with EIA. Also, EIA will later seek approval for this collection by OMB under Section 3507(a) of the Paperwork Reduction Act of 1995.

The Nuclear Waste Policy Act of 1982 (42 U.S.C. 10101 et seq.) required that DOE enter into Standard Contracts with all generators or owners of spent nuclear fuel and high-level radioactive waste of domestic origin. Form NWPA-830G Appendix G—Standard Remittance Advice for Payment of Fees, including annex A to appendix G, is an Appendix to this Standard Contract. Appendix G and annex A to appendix G are commonly referred to as Remittance Advice (RA) forms. RA forms must be submitted quarterly by generators and owners of spent nuclear fuel and high-level radioactive waste of domestic origin who signed the Standard Contract. Appendix G is designed to serve as the source document for entries into DOE accounting records to transmit data to DOE concerning payment of fees into the Nuclear Waste Fund for spent nuclear fuel and high-level waste disposal. Annex A to appendix G is used to provide data on the amount of net electricity generated and sold, upon which these fees are based.

(4a) Changes to Information Collection: The reduction of 20 annual burden hours for Form NWPA-830G results from the reduction of the number of total respondents representing reactors that decreased from 95 to 94. One reactor permanently shut down since the last clearance cycle and no longer is required to pay fees into the Nuclear Waste Fund nor respond to this survey.

(5) Annual Estimated Number of Respondents: 94.

(6) Annual Estimated Number of Total Responses: 376.

(7) Annual Estimated Number of Burden Hours: 1,880.

(8) Annual Estimated Reporting and Recordkeeping Cost Burden: $171,381 (1,880 estimated number of burden hours times $91.16 per hour current average loaded wage rate). DOE estimates that respondents will have no additional costs associated with the surveys other than the burden hours and the maintenance of the information during the normal course of business.

Statutory Authority: 15 U.S.C. 772(b), 42 U.S.C. 7101, and 42 U.S.C. 10101 et seq.

Signed in Washington, DC, on December 12, 2024.
Samson A. Adeshiyan,
Director, Office of Statistical Methods and Research, U.S. Energy Information Administration.

[FR Doc. 2024-29986 Filed 12-17-24; 8:45 am]

BILLING CODE 6450-01-P